DEPARTMENT OF EDUCATION

Notice of Submission for OMB Review

Correction

In notice document 2011-2099 on pages 5356-5357 in the issue of Monday, January 31, 2011, make the following correction:

On page 5356, in the second column, in the DATES section, “January 31, 2011” should read “March 2, 2011”.

[FR Doc. C1-2011-2099 Filed 2-2-11; 8:45 am]

BILLING CODE 1505-01-D